INTERNATIONAL TRADE COMMISSION

[Investigation No. 337-TA-836]

Certain Consumer Electronics and Display Devices and Products Containing Same Determination Not To Review Initial Determination To Amend Complaint and Notice of Investigation

AGENCY: U.S. International Trade Commission.

ACTION: Notice.

SUMMARY: Notice is hereby given that the U.S. International Trade Commission has determined not to review an initial determination (“ID”) (Order No. 3) to amend the complaint and notice of investigation to add allegations of infringement of U.S. Patent No. 8,144,158; to correct the name of respondent Sony Ericsson Mobile Communications AB to Sony Mobile Communications AB; to correct the name of respondent Sony Ericsson Mobile Communications, Inc. to Sony Mobile Communications (USA), Inc.; and to correct the name of licensee Motorola Mobility Holdings, Inc. to Motorola Mobility, Inc.

FOR FURTHER INFORMATION CONTACT: Clark S. Cheney, Office of the General Counsel, U.S. International Trade Commission, 500 E Street SW., Washington, DC 20436, telephone 202-205-2661. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on April 10, 2012, based on a complaint filed by Graphics Properties Holdings, Inc. of New Rochelle, New York (“GPH”). 77 FR 21584 (April 10, 2012). The complaint alleges violations of section 337 of the Tariff Act of 1930, as amended (19 U.S.C. 1337), in the importation into the United States, the sale for importation, and the sale within the United States after importation of certain consumer electronics and display devices and products containing the same by reason of infringement of U.S. Patent Nos. 6,650,327; 6,816,145; and 5,717,881. The original notice of investigation named numerous respondents, including Sony Ericsson Mobile Communications AB and Sony Ericsson Mobile Communications, Inc.

On April 17, 2012, GPH filed an unopposed motion to amend the complaint and notice of investigation to add allegations of infringement of U.S. Patent No. 8,144,158 (“the '158 patent”); to correct the name of respondent Sony Ericsson Mobile Communications AB to Sony Mobile Communications AB; to correct the name of respondent Sony Ericsson Mobile Communications, Inc. to Sony Mobile Communications (USA), Inc.; and to correct the name of GPH's licensee Motorola Mobility Holdings, Inc. to Motorola Mobility, Inc.

On April 24, 2012, the ALJ issued the subject ID (Order No. 3) granting the motion to amend the complaint and notice of investigation. No petitions for review of the ID were filed.

The Commission has determined not to review the ID.

The authority for the Commission's determination is contained in section 337 of the Tariff Act of 1930, as amended (19 U.S.C. 1337), and in section 210.42(h)(3) of the Commission's Rules of Practice and Procedure (19 CFR 210.42(h)(3)).

Issued: May 23, 2012.
By order of the Commission.
James R. Holbein,
Secretary to the Commission.

[FR Doc. 2012-13080 Filed 5-29-12; 8:45 am]

BILLING CODE 7020-02-P